DEPARTMENT OF HOMELAND SECURITY

Federal Emergency Management Agency

[Docket ID: FEMA-2010-0041]

Agency Information Collection Activities: Proposed Collection; Comment Request, 1660-0036; Federal Emergency Management Agency Individual Assistance Customer Satisfaction Surveys

AGENCY: Federal Emergency Management Agency, DHS.

ACTION: Notice; 60-day notice and request for comments; revision of a currently approved information collection OMB No. 1660-0036; Caller Services Registration Survey, FEMA Form 007-0-3; Caller Services Helpline Survey, FEMA Form 007-0-5; Internet Registration Survey, FEMA Form 070-0-2; Internet Inquiry Survey; Program Effectiveness & Recovery Survey, FEMA Form 070-0-20; Casework Representative Survey, FEMA Form 007-0-6; Direct Housing Operations Survey, FEMA Form 007-0-4; Special Needs Representative Survey, FEMA Form 007-0-8; Disaster Recovery Center Survey, FEMA Form 007-0-7; Communication and Process Survey, FEMA Form 007-0-9, Contact Survey, FEMA Form 007-0-10, Correspondence and Process Survey, FEMA Form 007-0-11, E-Communications Survey, FEMA Form 007-0-12, Evacuations Survey, FEMA Form 007-0-13, Follow-Up Program Effectiveness and Recovery Survey, FEMA Form 007-0-14, Rapid Temporary Repair Survey, FEMA Form 007-0-15, Recovery Inventory Survey, FEMA Form 007-0-16, Return Home Survey, FEMA Form 007-0-17, and Site Recertification Survey, FEMA Form 007-0-18.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning which is necessary for assessment and improvement of the delivery of disaster assistance. The forms serve as survey tools used to evaluate customer perceptions of effectiveness, timeliness and satisfaction with initial, continuing and final delivery of disaster-related assistance.

DATES: Comments must be submitted on or before September 13, 2010.

ADDRESSES: To avoid duplicate submissions to the docket, please use only one of the following means to submit comments:

(1) Online. Submit comments at http://www.regulations.gov under docket ID FEMA-2010-0041. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2010-0041 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Maggie Billing, Program Analyst, Customer Satisfaction Analysis Section, Texas National Processing Service Center, Recovery Directorate, FEMA at 940 891-8709 or maggie.biling@dhs.gov for additional information. You may contact the Office of Records Management for copies of the proposed collection of information at facsimile number (202) 646-3347 or e-mail address: FEMA-Information-Collections@dhs.gov.

SUPPLEMENTARY INFORMATION: This collection is in accordance with Executive Order 12862 requiring all Federal agencies to survey customers to determine the kind and quality of services they want and their level of satisfaction with existing services. The Government Performance and Results Act (GPRA) requires agencies to set missions and goals and measure performance against them. FEMA will fulfill these requirements by collecting customer service and program information through surveys of the Recovery Directorate's external customers.

Collection of Information

Title: Federal Emergency Management Agency Individual Assistance Customer Satisfaction Surveys.

Type of Information Collection: Revision of a currently approved information collection.

OMB Number: 1660-0036.

Form Titles and Numbers: Caller Services Registration Survey, FEMA Form 007-0-3; Caller Services Helpline Survey, FEMA Form 007-0-5; Internet Registration Survey, FEMA Form 070-0-2; Internet Inquiry Survey; Program Effectiveness & Recovery Survey, FEMA Form 070-0-20; Casework Representative Survey, FEMA Form 007-0-6; Direct Housing Operations Survey, FEMA Form 007-0-4; Special Needs Representative Survey, FEMA Form 007-0-8; Disaster Recovery Center Survey, FEMA Form 007-0-7; Communication and Process Survey, FEMA Form 007-0-9, Contact Survey, FEMA Form 007-0-10, Correspondence and Process Survey, FEMA Form 007-0-11, E-Communications Survey, FEMA Form 007-0-12, Evacuations Survey, FEMA Form 007-0-13, Follow-Up Program Effectiveness and Recovery Survey, FEMA Form 007-0-14, Rapid Temporary Repair Survey, FEMA Form 007-0-15, Recovery Inventory Survey, FEMA Form 007-0-16, Return Home Survey, FEMA Form 007-0-17, and Site Recertification Survey, FEMA Form 007-0-18.

Abstract: Federal agencies are required to survey their customers to determine the kind and quality of services customers want and their level of satisfaction with existing services. FEMA Managers use the survey results to measure program performance against standards for performance and customer service; measure achievement of GPRA and strategic planning objectives; and generally gauge and make improvements to disaster services that increase customer satisfaction and program effectiveness.

Affected Public: Individuals and Households.

Estimated Total Annual Burden Hours: 10,186.

Annual Hour Burden
Data collection activity/instrument | No. of respondents | Frequency of responses | Hour burden per response | Annual responses | Total annual burden hours
Caller Services Registration Survey | 5,000 | 1 | 0.1000 | 5,000 | 500
Caller Services Helpline Survey | 5,000 | 1 | 0.1000 | 5,000 | 500
Casework Representative Survey | 5,000 | 1 | 0.1000 | 5,000 | 500
Internet Registration Survey | 5,000 | 1 | 0.1000 | 5,000 | 500
Internet Inquiry Survey | 5,000 | 1 | 0.1000 | 5,000 | 500
Program Effectiveness & Recovery Survey | 12,000 | 1 | 0.2000 | 12,000 | 2,400
Special Needs Representative Survey | 5,000 | 1 | 0.1166 | 5,000 | 583
Direct Housing Operations Survey | 1,770 | 3 | 0.1000 | 5,310 | 531
Disaster Recovery Center Survey | 6,300 | 1 | 0.1333 | 6,300 | 840
Surveys Sub Total | 50,070 |  |  | 53,610 | 6,854
Diagnostics:
Communication and Process Survey | 400 | 1 | 0.2500 | 400 | 100
Contact Survey | 400 | 1 | 0.2500 | 400 | 100
Correspondence and Process Survey | 800 | 1 | 0.2500 | 800 | 200
E-Communications Survey | 400 | 1 | 0.2500 | 400 | 100
Evacuations | 400 | 1 | 0.2500 | 400 | 100
Follow-Up Program Effectiveness & Recovery Survey | 1600 | 1 | 0.2500 | 1600 | 400
Rapid Temporary Repair Survey | 400 | 1 | 0.2500 | 400 | 100
Recovery Inventory Survey | 800 | 1 | 0.2500 | 800 | 200
Return Home Survey | 400 | 1 | 0.2500 | 400 | 100
Site Recertification Survey | 400 | 1 | 0.2500 | 400 | 100
Diagnostics Sub Total | 6,000 |  |  | 6,000 | 1,500
Focus Group | 144 | 1 | 2.0000 | 144 | 288
Same Respondents Travel to Focus Group | 144 | 1 | 1.0000 | 144 | 144
One-on-One Interviews | 350 | 1 | 2.0000 | 350 | 700
On-Line Interviews | 350 | 1 | 2.0000 | 350 | 700
Focus Groups Sub Total | 988 |  |  | 988 | 1,832
Total | 57,058 |  |  | 60,598 | 10,186

Estimated Cost: There are no annual capital start-up or annual operations and maintenance costs. The annual non-labor cost is $4,320.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 2, 2010.
Tammi Hines,
Director, Office of Records Management, Office of Management, Federal Emergency Management Agency, Department of Homeland Security.

[FR Doc. 2010-17086 Filed 7-13-10; 8:45 am]

BILLING CODE 9111-23-P